DEPARTMENT OF THE INTERIOR

Bureau of Indian Affairs

Submission of Information Collection to the Office of Management and Budget (OMB) for Review Under the Paperwork Reduction Act

AGENCY: Bureau of Indian Affairs, Interior.

ACTION: Notice.

SUMMARY: This notice announces that the Information Collection Request for Adult Education Annual Report Form, OMB Control No. 1076-0120, requires renewal. The information collection requirement, with no appreciable changes, is submitted to the Office of Management and Budget (OMB) for review, as required by the Paperwork Reduction Act of 1995.

DATES: Written comments must be submitted on or before March 4, 2005.

ADDRESSES: Comments are to be sent to Office of Information and Regulatory Affairs, Office of Management and Budget, Attention: Desk Officer for the Department of the Interior. Comments may be sent via facsimile to (202) 395-6566 or you may send e-mail to: OIRA_DOCKET@omb.eop.gov. Copies of comments should be sent to Edward Parisian, Acting Director, Office of Indian Education Programs, Department of the Interior, Bureau of Indian Affairs, 1849 C St., NW., Mail Stop 3609-MIB, Washington, DC 20240, or hand delivered to room 3609 at the above address.

FOR FURTHER INFORMATION CONTACT: Garry Martin, Bureau of Indian Affairs, Department of the Interior, 1849 C Street, NW., Washington, DC 20240, 202-208-3478.

SUPPLEMENTARY INFORMATION:

I. Abstract

The information collection is necessary to assess the need for adult education programs in accordance with 25 CFR 46, subpart A, sections 46.20 Program Requirements and 46.30 Records and Reporting Requirements of the Adult Education Program.

We did not receive any comments on our Federal Register notice of November 15, 2004 (69 FR 65628). You may still send comments on this collection of information to the Office of Information and Regulatory Affairs, OMB at the address listed in ADDRESSES section. Please send copies of these comments to the Director of the Office of Indian Education Programs at the address listed in the ADDRESSES section.

II. Method of Collection

The Adult Education Program regulations under 25 CFR 46, subpart A, contain the program requirements which govern the program. Information collected from the contractors will be used for administrative planning, setting long- and short-term goals, and analyzing and monitoring the use of funds.

III. Data

Title of the Collection of Information: Bureau of Indian Affairs Adult Education Program Annual Report Form.

OMB Control Number: 1076-0120.

Type of Review: Renewal of a currently-approved information collection.

Summary of the Collection of Information: The collection of information provides pertinent data concerning the adult education programs.

Description of the Need for the Information and Proposed Use of the Information: Submission of this information is necessary to assess the need for adult education programs. The information is needed for the utilization and management of program resources to provide education opportunities for adult American Indians and Alaska Natives to complete high school requirements, and to gain new skills and knowledge for individual student self-enhancement. The information collected with the annual report will be used by the Bureau or tribally-controlled programs for fiscal accountability and appropriate direct services documentation. The results of the data are used for administrative planning.

Affected Entities: Tribal adult education contractors.

Estimated Number of Respondents: 70. Respondents are tribal adult education program administrators.

Proposed Frequency of Responses: Annually.

Burden: The estimate of total annual reporting and record keeping burden that will result from the collection of information: Reporting 4 hours per response × 70 respondents = 280 hours.

Estimated Annual Costs: $5,040.00 (4 hours × 70 × $18.00 = salary dollars).

IV. Request for Comments

The Department of the Interior invites comments on:

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information, to search data sources, to complete and review the collection of information; and to transmit or otherwise disclose the information. An agency may not conduct or sponsor, and a person is not required to respond to a collection of information, unless it displays a currently valid Office of Management and Budget Control Number.

Dated: January 26, 2005.
David W. Anderson,
Assistant Secretary—Indian Affairs.

[FR Doc. 05-1897 Filed 2-1-05; 8:45 am]

BILLING CODE 4310-6W-P